DEPARTMENT OF DEFENSE

Office of the Secretary

[Docket ID: DOD-2018-OS-0010]

Privacy Act of 1974; System of Records

AGENCY: Office of the Secretary of Defense, DoD.

ACTION: Notice of a new system of records.

SUMMARY: The Office of the Secretary of Defense proposes to add a system of records entitled, “Military Spouse Employment Partnership (MSEP) Career Portal, DPR 47 DoD.” This system is the sole web platform utilized to connect military spouses with companies seeking to hire military spouse employees. Participating companies, called MSEP Partners, are vetted and approved participants in the MSEP Program and have pledged to recruit, hire, promote and retain military spouses in portable careers. MSEP is a targeted recruitment and employment partnership that connects American businesses with military spouses who possess essential 21st-century workforce skills and attributes and are seeking portable, fulfilling careers.

DATES: Comments will be accepted on or before April 18, 2018. This proposed action will be effective the date following the end of the comment period unless comments are received which result in a contrary determination.

ADDRESSES: You may submit comments, identified by docket number and title, by any of the following methods:

• Federal Rulemaking Portal: http://www.regulations.gov.

Follow the instructions for submitting comments.

• Mail: Department of Defense, Office of the Chief Management Officer, Directorate for Oversight and Compliance, 4800 Mark Center Drive, Mailbox #24, Suite 08D09B, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense proposes to establish a new system of records subject to the Privacy Act of 1974, 5 U.S.C. 552a. The Military Spouse Employment Partnership (MSEP) Career Portal (DPR 47 DoD) is the sole web platform utilized to connect military spouses with companies seeking to hire military spouse employees. Participating companies, called MSEP Partners, are vetted and approved participants in the MSEP Program and have pledged to recruit, hire, promote and retain military spouses in portable careers. MSEP is a targeted recruitment and employment partnership that connects American businesses with military spouses who possess essential 21st-century workforce skills and attributes and are seeking portable, fulfilling careers. The MSEP program is part of the overall Spouse Education and Career Opportunities (SECO) program which falls under the auspices of the office of the Deputy Assistant Secretary of Defense for Military Community & Family Policy.

This program was developed in compliance with 10 U.S. Code 1784 Employment Opportunities for Military Spouses and DoDI 1342.22, Military Family Readiness.

Users may learn about this program in various ways including through the Military OneSource program, installation service providers, from other military spouses, from other MSEP Partners and via general online searches. Once aware of the program interested spouses may simply access by going online to the following URL: https://msepjobs.militaryonesource.mil/msep/.

Military spouses register on the MSEP Career Portal to help connect them to MSEP Partner employers who are hiring. After arriving at the MSEP Career Portal, military spouses are able to review resources, conduct a job search or select to register. All of this information is available on the web portal where the registration process is also completed. Once the military spouse has registered they may choose to make their education and work experience visible to MSEP Partner employers as they are searching for candidates to fill available positions with their company. Prior to providing any information military spouses must first view the Privacy Act Statement and Agency Disclosure Notice. This information displays in a pop-up when a military spouse first clicks into a field on the registration form to provide information. The military spouse must review the information and click to close the pop-up before they can proceed with completing the form.

The Office of the Secretary of Defense notices for systems of records subject to the Privacy Act of 1974, as amended, have been published in the Federal Register and are available from the address in FOR FURTHER INFORMATION CONTACT or at the Defense Privacy, Civil Liberties, and Transparency Division website at http://dpcld.defense.gov/.

The proposed systems reports, as required by of the Privacy Act, as amended, were submitted on October 3, 2017, to the House Committee on Oversight and Government Reform, the Senate Committee on Homeland Security and Governmental Affairs, and the Office of Management and Budget (OMB) pursuant to Section 6 to OMB Circular No. A-108, “Federal Agency Responsibilities for Review, Reporting, and Publication under the Privacy Act,” revised December 23, 2016 (December 23, 2016, 81 FR 94424).

Dated: March 13, 2018.
Aaron Siegel,
Alternate OSD Federal Register Liaison Officer, Department of Defense.

SYSTEM NAME AND NUMBER

Military Spouse Employment Partnership (MSEP) Career Portal, DPR 47 DoD.

SECURITY CLASSIFICATION:

Unclassified.

SYSTEM LOCATION:

Personnel and Readiness, Office of Family Readiness Policy, 4800 Mark Center Drive, Alexandria, VA 22350-3500.

SYSTEM MANAGER(S):

MSEP Portal Program Manager, Military Community and Family Policy (MC&FP), 4800 Mark Center Drive, Alexandria, VA 22350-2300, Osd.msepjobs@mail.mil, (571) 372-5314.

AUTHORITY FOR MAINTENANCE OF THE SYSTEM:

10 U.S.C. 136, Under Secretary of Defense for Personnel and Readiness; 10 U.S.C. 1784, Employment opportunities for military spouses; 10 U.S.C. 1784a, Education and training opportunities for military spouses to expand employment and portable career opportunities; and DoD Instruction 1342.22, Military Family Readiness.

PURPOSE(S) OF THE SYSTEM:

MSEP connects military spouses with companies seeking to hire military spouse employees, via comprehensive information, tools and resources. The information provided by military spouses allows MSEP Partner employers to fill available positions with their company with skilled military spouses. Records may also be used as a management tool for de-identified statistical analysis, tracking, reporting, evaluating program effectiveness and conducting research.

CATEGORIES OF INDIVIDUALS COVERED BY THE SYSTEM:

Participating spouses (hereafter military spouse) of active duty service members in the Army, Marine Corps, Navy, Air Force and Coast Guard, including military spouses of members of the National Guard and Reserve Components in the same status.

CATEGORIES OF RECORDS IN THE SYSTEM:

Military spouse—full name, date of birth, DoD ID number (used for verification purposes only), ethnicity, gender, MSEP Career Portal username, user role and password, email address, current job type, salary, and hourly wage, address, phone number, best time to call, preferred job type, preferred industry of work, minimum desired salary and hourly wage, date planned to begin work, work experience (job title, company name, industry, employment dates, job description and duties, personal experience and achievements), education (degree level, additional degree details, field of study, dates, institution name, summary), credentials/certifications (credential/certification name, date of receipt, state of receipt, institution name, summary). Military sponsor—pay grade, branch of service, status (Active duty, National Guard, and Reserve).

RECORD SOURCE CATEGORIES:

The individual, Defense Enrollment Eligibility Reporting System (DEERS).

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may specifically be disclosed outside the DoD as a routine use pursuant to 5 U.S.C. 552a(b)(3) as follows:

a. Contractors: To contractors, grantees, experts, consultants, students, and others performing or working on a contract, service, grant, cooperative agreement, or other assignment for the federal government when necessary to accomplish an agency function related to this system of records.

b. To MSEP Partners for the purpose of searching for military spouse employment candidates.

c. To the National Archives and Records Administration for the purpose of records management inspections conducted under the authority of 44 U.S.C. 2904 and 2906.

d. Breach Mitigation and Notification: To appropriate agencies, entities, and persons when (1) The Department of Defense (DoD) suspects or has confirmed that the security or confidentiality of the information in the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

e. Breach Mitigation and Notification: To another Federal agency or Federal entity, when the Department of Defense (DoD) determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

f. Department of Justice Litigation: To any component of the Department of Justice for the purpose of representing the Department of Defense, or any officer, employee or member of the Department of Defense in pending or potential litigation to which the record is pertinent.

g. Law Enforcement (Investigations): To the appropriate federal, state, local, territorial, tribal, or foreign, or international law enforcement authority or other appropriate entity where a record, either alone or in conjunction with other information, indicates a violation or potential violation of law, whether criminal, civil, or regulatory in nature.

POLICIES AND PRACTICES FOR STORAGE OF RECORDS:

Electronic storage media.

POLICIES AND PRACTICES FOR RETRIEVAL OF RECORDS:

Full name, email address, or MSEP Career Portal username.

POLICIES AND PRACTICES FOR RETENTION AND DISPOSAL OF RECORDS:

Records are destroyed or deleted when 5 years old or when no longer needed for operational purposes, whichever is later.

ADMINISTRATIVE, TECHNICAL, AND PHYSICAL SAFEGUARDS:

The MSEP Career data are housed in the Defense Information System Agency, Defense Enterprise Computing Center and the system is only accessible to authorized personnel. The system is designed with access controls and enforces DoD password and lockout policies. Access to personally identifiable information (PII) is restricted to authorized personnel only with appropriate need to know and the completion of annual information assurance and privacy training. PII data is protected by encryption.

RECORD ACCESS PROCEDURES:

Individuals seeking access to information about themselves contained in this record system should address inquiries to the Office of the Secretary of Defense/Joint Staff Freedom of Information Act Requester Service Center, 1155 Defense Pentagon, Washington, DC 20301-1155.

Signed, written requests should include the individual's full name, current address, telephone number, and the name and number of this system of records notice.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

CONTESTING RECORD PROCEDURES:

The Office of the Secretary of Defense (OSD) rules for accessing records, and for contesting contents and appealing initial agency determinations are published in OSD Administrative Instruction 81; 32 CFR part 311; or may be obtained from the system manager.

NOTIFICATION PROCEDURES:

Individuals seeking to determine if information about themselves is contained in this record system should address written inquiries to the Director, Office of Family Readiness Policy (OFRP) or Spouse Education and Career Opportunities (SECO) Program Manager, Military Community and Family Policy (MC&FP), 4800 Mark Center Drive, Alexandria, VA 22350-2300.

Signed, written requests should include the individual's full name, current address, and telephone number.

In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature)”.

EXEMPTIONS PROMULGATED FOR THE SYSTEM:

None.

HISTORY:

None.

[FR Doc. 2018-05422 Filed 3-16-18; 8:45 am]

BILLING CODE 5001-06-P